DEPARTMENT OF AGRICULTURE

Agriculture Marketing Service

7 CFR Part 1216

[Document Number AMS-FV-08-0110; FV-08-704]

Peanut Promotion, Research, and Information Order; Section 610 Review

AGENCY: Agricultural Marketing Service, USDA.

ACTION: Notice of regulatory review and request for comments.

SUMMARY: This document announces the Agricultural Marketing Service's (AMS) review of the Peanut Promotion, Research, and Information Order (Order), conducted under the Commodity Promotion, Research, and Information Act of 1996 (Act), under the criteria contained in Section 610 of the Regulatory Flexibility Act (RFA).

DATES: Written comments on this document must be received by June 2, 2009.

ADDRESSES: Interested persons are invited to submit written comments on the Internet at: http://www.regulations.gov or to the Research and Promotion Branch, Fruit and Vegetable Programs, Agricultural Marketing Service, U.S. Department of Agriculture (Department), Room 0632-S, Stop 0244, 1400 Independence Avenue, SW., Washington, DC 20250-0244; facsimile: (202) 205-2800. All comments should reference the docket number and the date and page number of this issue of the Federal Register and will be made available for public inspection in the above office during regular business hours or it can be viewed at http://www.regulations.gov.

FOR FURTHER INFORMATION CONTACT: Jeanette Palmer, Marketing Specialist, Research and Promotion Branch, Fruit and Vegetable Programs, Agricultural Marketing Service, U.S. Department of Agriculture, Stop 0244, 1400 Independence Avenue, SW., Room 0632-S, Washington, DC 20250-0244; telephone: (888) 720-9917; facsimile: (202) 205-2800; or electronic mail: Jeanette.Palmer@ams.usda.gov.

SUPPLEMENTARY INFORMATION: The Commodity Promotion, Research, and Information Act of 1996 (7 U.S.C. 7411-7425) authorized the Peanut Promotion, Research, and Information Order (7 CFR part 1216) which is administered by the National Peanut Board, with oversight by the Department. The Order's objective is to carry out an effective, continuous, and coordinated program of promotion, research, and information designed to strengthen peanuts' competitive position, and to maintain and expand the domestic market for peanuts.

The Order became effective on July 30, 1999. The program is funded by a mandatory assessment on all peanut producers at the rate of one percent of the total value of all farmers stock peanuts. The first handler collects from each peanut producer and pays assessments to the Board on all peanuts handled. For peanuts placed under a marketing assistance loan with the Department's Commodity Credit Corporation, the Commodity Credit Corporation will deduct and remit to the Board, from the proceeds of the loan paid to the peanut producer, one percent of the loan value of the peanuts as determined by the warehouse receipt accompanying such peanuts.

The Order is administered by the National Peanut Board, which is composed of 11 producer members and their alternates: One member and alternate from each primary peanut producing State (Alabama, Florida, Georgia, Mississippi, New Mexico, North Carolina, Oklahoma, South Carolina, Texas, and Virginia) and one at-large member and alternate collectively from the minor peanut producing States. The members and alternates are nominated by peanut producers or peanut producer groups. The producer and alternate members were appointed to the Board by the Secretary of Agriculture. All Board members serve a term of three years.

The AMS published in the Federal Register on March 24, 2006 (71 FR 14828), its plan to review certain regulations, including the Peanut Promotion, Research, and Information program, under criteria contained in section 610 of the Regulatory Flexibility Act (RFA; 5 U.S.C. 601-612). Because many AMS regulations impact small entities, AMS decided, as a matter of policy, to review certain regulations which, although they may not meet the threshold requirement under section 610 of the RFA, warrant review. According to the schedule published in 2006, this notice and request for comments is made for the Order.

The purpose of the review is to determine whether the Order should be continued without change, amended, or rescinded (consistent with the objectives of the Act) to minimize the impacts on small entities. AMS will consider the following factors: (1) The continued need for the Order; (2) the nature of complaints or comments received from the public concerning the Order; (3) the complexity of the Order; (4) the extent to which the Order overlaps, duplicates, or conflicts with other Federal rules, and, to the extent feasible, with State and local regulations; and (5) the length of time since the Order has been evaluated or the degree to which technology, economic conditions, or other factors have changed in the area affected by the Order.

Written comments, views, opinions, and other information regarding the Order's impact on small businesses are invited.

Authority: 7 U.S.C. 7411-7425; 7 U.S.C. 7401.

Dated: March 30, 2009.
Robert C. Keeney,
Acting Associate Administrator.

[FR Doc. E9-7475 Filed 4-2-09; 8:45 am]

BILLING CODE 3410-02-P